ENVIRONMENTAL PROTECTION AGENCY

[OPP-2004-0002; FRL-7341-6]

Public Workshop on Plant-Incorporated Protectant Experimental Use Permits; Notice of Public Meeting

AGENCY: Environmental Protection Agency (EPA).

ACTION: Notice.

SUMMARY: EPA is holding a public workshop entitled Plant-Incorporated Protectant (PIP) Experimental Use Permits (EUP): Process and Compliance. EPA recognizes that some PIP EUP regulatory issues require review and clarification, and is seeking public participation and input to help identify the best approaches to regulatory improvements pertaining to PIP EUPs.

DATES: The meeting will be held on February 10 and 11, 2004 from 8:30 a.m. to 5 p.m.

Requests to participate in the meeting, identified by docket ID number OPP-2004-0002, must be received on or before February 2, 2004.

ADDRESSES: The meeting will be held at the Crystal City Hilton, 2399 Jefferson Davis Hwy, Arlington, VA 22202. Telephone number: (703) 418-6800.

Requests to participate in the meeting may be submitted to the person listed under FOR FURTHER INFORMATION CONTACT.

FOR FURTHER INFORMATION CONTACT: Karen Heisler, Region 9 (CMD-1) 75 Hawthorne St., San Francisco, CA 94105; telephone number: 415-947-4240; fax number: 415-947-3583; e-mail address: Heisler.Karen@epa.gov. To preregister for the workshop by February 2, 2004 contact Teresa Bullock at American Farmland Trust by e-mail: tbullock@niu.edu, by telephone: (815) 753-9347 or by fax: (815) 753-9348).

SUPPLEMENTARY INFORMATION:

I. General Information

A. Does this Action Apply to Me?

This action is directed to the general public, and may be of particular interest to persons who apply for, manage, or conduct research under a PIP Experimental Use Permit, or whose work involves issues related to biotechnology-derived PIP EUPs. Potentially affected entities may include, but are not limited to: applicants for PIP experimental use permits; Federal, State, and local regulators of biotechnology; government, industry, and academic researchers working in the field of agricultural biotechnology; non-governmental organizations; agricultural/agronomic associations, and the biotechnology trade association. Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2004-0002. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the Federal Register listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Background

A. What Topics Will the Workshop Address?

The basic goal of this workshop is to address and clarify certain aspects of PIP EUPs such as the definition of terms and permit conditions so that the PIP EUP program, including associated field obligations, is clear to EUP applicants and researchers. The workshop is expected to improve the PIP EUP process and result in increased compliance, thereby enhancing protection of the environment and human health. The workshop will address the PIP EUP application and permitting process, and associated compliance issues. EPA will provide background on its PIP EUP regulatory goals, and a preselected panel comprised of stakeholders from industry, academia, and public interest groups will discuss their goals and needs. EPA will solicit input from workshop participants on specific topics, including the PIP EUP application and permitting process; permit terminology and definitions; the enforceability of EUP language and activities; containment and confinement issues; and content and data requirements. Participants will be asked to identify concerns and recommend potential solutions. EPA anticipates holding panel discussions on three additional topics: The comparability of U.S. Department of Agriculture and EPA experimental biotechnology programs; the balancing of proprietary information with public transparency; and compliance issues and needs. These topics are directly related to ensuring environmental protection, maintaining a healthy climate for experimental research, and promoting public confidence; information from the workshop may be used as guidance in further Agency deliberations of these topics. To ensure that a diversity of views are represented in these discussions, panelists will be preselected from stakeholder groups, including industry, government, academia, and public interest groups.

B. How Should I Prepare for the Workshop?

The workshop will be a working meeting, with participants expected to provide thoughtful discussion and concrete suggestions on the topics identified above. EPA requests attendees to participate in all sessions to ensure productive collaboration and adequate representation of stakeholder perspectives. EPA also requests that participants review relevant background documents prior to the meeting. A tentative agenda and related documents will be made available at http://www.epa.gov/pesticides/biopesticides. EPA supports the goals of green conferencing and strongly encourages participants at this meeting to recycle, reduce the use of paper products and bulk mailings, and use mass transit. The meeting location is within walking distance of the Crystal City Metro Stop on the Blue and Yellow Lines. More about green conferencing can be found at: http://www.epa.gov/oppt/greenmeetings/.

III. How Can I Request to Participate in this Meeting?

Preregister for this workshop by contacting Teresa Bullock at American Farmland Trust by email tbullock@niu.edu, by telephone (815-753-9347) or by fax (815- 753-9348). You must preregister on or before February 2, 2004 or you can register on site the day of the workshop.

List of Subjects

Environmental protection, FIFRA, Plant-Incorporated Pesticides, Experimental Use Permits, Biotechnology, Biopesticides.

Dated: January 8, 2004.
Janet L. Andersen,
Director, Biopesticides and Pollution Prevention Division.

[FR Doc. 04-893 Filed 1-14-04; 8:45 am]

BILLING CODE 6560-50-S